DEPARTMENT OF COMMERCE

International Trade Administration

[A-533-502]

Certain Welded Carbon Steel Standard Pipes and Tubes From India: Rescission of Antidumping Duty Administrative Review

AGENCY: Import Administration, International Trade Administration, Department of Commerce.

SUMMARY: In response to a request from an interested party, the Department of Commerce (the Department) initiated an administrative review of the antidumping duty order on certain welded carbon steel standard pipes and tubes from India. The period of review is May 1, 2010, through April 30, 2011. As a result of the withdrawal of the request for review, the Department is rescinding this review.

DATES: Effective Date: December 19, 2011.

FOR FURTHER INFORMATION CONTACT: Catherine Cartsos or Minoo Hatten, AD/CVD Operations, Office 5, Import Administration, International Trade Administration, U.S. Department of Commerce, 14th Street and Constitution Avenue NW., Washington, DC 20230; telephone: (202) 482-1757 or (202) 482-1690, respectively.

SUPPLEMENTARY INFORMATION:

Background

On June 28, 2011, and in accordance with 19 CFR 351.213(g) and 19 CFR 351.221(b)(1), the Department published a notice of initiation of an administrative review of the antidumping duty order on certain welded carbon steel standard pipes and tubes from India. See Initiation of Antidumping and Countervailing Duty Administrative Reviews and Request for Revocation in Part, 76 FR 37781 (June 28, 2011) (Notice of Initiation). Based on a request for review from United States Steel Corporation, we initiated reviews of Arihant Domestic Appliances Ltd., Good Luck Steel Tubes Ltd. and all affiliates, Good Luck Industries, Innoventive Industries Ltd., Jindal Group and all affiliates, Jindal Industries Ltd., Jindal Saw Ltd., Jindal Steel and Power Ltd., JSL Ltd., JSW Steel Ltd.¹, Jotindra Steel and Tubes Ltd., Lloyds Group and all affiliates, Lloyds Metals & Engineers Ltd., Lloyds Steel Industries Ltd., Welspun Group and all affiliates, Welspun Corp. Ltd., Welspun Trading Ltd., Welspun Steel Ltd., and Welspun Investments and Commercials Ltd.

¹ In the Notice of Initiation, when listing JSW Steel Ltd., we inadvertently spelled the word “steel” with a lowercase “s” instead of an uppercase “s.” See Notice of Initiation, 76 FR at 37783.

Rescission of Review

In accordance with 19 CFR 351.213(d)(1), the Department will rescind an administrative review, “in whole or in part, if a party that requested a review withdraws the request within 90 days of the date of publication of notice of initiation of the requested review. The Secretary may extend this time limit if the Secretary decides that it is reasonable to do so.” On September 23, 2011, United States Steel Corporation withdrew its request for a review of the order with respect to Arihant Domestic Appliances Ltd., Good Luck Steel Tubes Ltd. and all affiliates, Good Luck Industries, Innoventive Industries Ltd., Jindal Group and all affiliates, Jindal Industries Ltd., Jindal Saw Ltd., Jindal Steel and Power Ltd., JSL Ltd., JSW Steel Ltd., Jotindra Steel and Tubes Ltd., Lloyds Group and all affiliates, Lloyds Metals & Engineers Ltd., Lloyds Steel Industries Ltd., Welspun Group and all affiliates, Welspun Corp. Ltd., Welspun Trading Ltd., Welspun Steel Ltd., and Welspun Investments and Commercials Ltd. Because we received no other requests for review of these companies and United States Steel Corporation withdrew its request within 90 days of the date of publication of the Notice of Initiation, we are rescinding the administrative review of the order with respect to Arihant Domestic Appliances Ltd., Good Luck Steel Tubes Ltd. and all affiliates, Good Luck Industries, Innoventive Industries Ltd., Jindal Group and all affiliates, Jindal Industries Ltd., Jindal Saw Ltd., Jindal Steel and Power Ltd., JSL Ltd., JSW Steel Ltd., Jotindra Steel and Tubes Ltd., Lloyds Group and all affiliates, Lloyds Metals & Engineers Ltd., Lloyds Steel Industries Ltd., Welspun Group and all affiliates, Welspun Corp. Ltd., Welspun Trading Ltd., Welspun Steel Ltd., and Welspun Investments and Commercials Ltd. This rescission is in accordance with 19 CFR 351.213(d)(1). The Department intends to issue appropriate assessment instructions to U.S. Customs and Border Protection 15 days after publication of this notice.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning destruction of proprietary information disclosed under an APO in accordance with 19 CFR 351.305(a)(3). Timely written notification of the return or destruction of APO materials or conversion to judicial protective order is hereby requested. Failure to comply with the regulations and terms of an APO is a violation which is subject to sanction.

This notice is published in accordance with section 777(i)(1) of the Tariff Act of 1930, as amended, and 19 CFR 351.213(d)(4).

Dated: December 13, 2011.
Christian Marsh,
Deputy Assistant Secretary for Antidumping and Countervailing Duty Operations.

[FR Doc. 2011-32445 Filed 12-16-11; 8:45 am]

BILLING CODE 3510-DS-P